FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 9, 2010.

A. Federal Reserve Bank of Atlanta (Steve Foley, Vice President) 1000 Peachtree Street, N.E., Atlanta, Georgia 30309:

1. Marty E. Adams, Salineville, Ohio; Kevin T. Thompson, Saint Augustine, Florida; and John S. Loeber, Travelers Rest, South Carolina; to acquire voting shares of Palm Bancorp, Inc., and thereby indirectly acquire voting shares of Palm Bank, both of Tampa, Florida.

B. Federal Reserve Bank of Kansas City (Dennis Denney, Assistant Vice President) 1 Memorial Drive, Kansas City, Missouri 64198-0001:

1. Verlyn Joseph Herman, Jr., and Aaron Joseph Herman, both of Norton, Kansas; as members of a family group acting in concert, to retain voting shares of First Norton Corporation, and thereby indirectly retain voting shares of First Security Bank & Trust Company, both of Norton, Kansas.

Board of Governors of the Federal Reserve System, January 20, 2010.
Robert deV. Frierson,
Deputy Secretary of the Board.

[FR Doc. 2010-1310 Filed 1-22-10; 8:45 am]

BILLING CODE 6210-01-S